DEPARTMENT OF HEALTH AND HUMAN SERVICES

Centers for Disease Control and Prevention

[30Day-06-0463x]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Assessment of Healthcare-associated Adverse Events—New—National Center for Infectious Diseases (NCID), Centers for Disease Control and Prevention (CDC).

Background and Brief Description

The Division of Healthcare Quality Promotion (DHQP) disseminates notices and alerts through a voluntary electronic mail subscriber list (i.e., Rapid Notification System) to inform healthcare personnel about healthcare-associated disease outbreaks and clusters or adverse events that may be of national importance and recommendation for preventing infections and antimicrobial resistance.

DHQP is occasionally involved in gathering information to determine if a recognized adverse event (e.g., an infection following the use of a particular product, type of equipment, or with a microorganism that has rarely been reported) has occurred on a national level in healthcare facilities. The information gained from this assessment will be used to target corrective actions or educational strategies to improve the public's health by preventing future adverse events.

To rapidly determine the scope of adverse events at the time soon after a public health notification or product recall, DHQP seeks to conduct short surveys using OMB approved questions among participants in the Rapid Notification System, National Nosocomial Infection Surveillance (NNIS), and other CDC networks (e.g., partners in healthcare working on innovative infection reduction projects such as the Pittsburgh Healthcare Regional Initiative and the Prevention Epidemiology Centers). The survey will also be posted on the DHQP website to reach additional healthcare professionals. The number of questions in each survey will range from 5 to 10. Data will be collected using a Web-based data collection form.

There are no costs to the respondents other than their time. The total estimated annualized burden hours are 67.

Estimated Annualized Burden Hours
Respondents | Number of respondents | Number of responses per respondent | Average burden hours
Healthcare professionals | 400 | 1 | 10/60

Dated: May 15, 2006.
Joan F. Karr,
Acting Reports Clearance Officer, Centers for Disease Control and Prevention.

[FR Doc. E6-8714 Filed 6-5-06; 8:45 am]

BILLING CODE 4163-18-P